EXPORT-IMPORT BANK

Economic Impact Policy

This notice is to inform the public that the Export-Import Bank of the United States has received an application for a $115 million direct loan to support the export of approximately $100 million worth of vehicle assembly equipment to India. The U.S. exports will enable the Indian company to produce approximately 330,000 vehicles per year. Available information indicates that the majority of this new vehicle production will be sold in India with the remainder sold in Mexico, the Middle East, Africa, and ASEAN regions. Interested parties may submit comments on this transaction by email to economic.impact@exim.gov or by mail to 811 Vermont Avenue NW., Room 442, Washington, DC 20571, within 14 days of the date this notice appears in the Federal Register, inclusive of the date of this notification.

Angela Mariana Freyre,
Senior Vice President and General Counsel.

[FR Doc. 2013-04078 Filed 2-21-13; 8:45 am]

BILLING CODE 6690-01-P